DEPARTMENT OF HEALTH AND HUMAN SERVICES

Centers for Disease Control and Prevention

[60Day-17-17ADS; Docket No. CDC-2017-0045]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project titled “Awardee Lead Profile Assessment (ALPA).” The information collection project includes a questionnaire to collect information to identify jurisdictional legal frameworks governing funded childhood lead poisoning prevention programs in the United States, and strategies for implementing childhood lead poisoning prevention activities in the United States.

DATES: Written comments must be received on or before June 26, 2017.

ADDRESSES: You may submit comments, identified by Docket No. CDC-2017-0045 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, of Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Awardee Lead Profile Assessment (ALPA)—NEW—National Center for Environmental Health (NCEH), Centers for Disease Control and Prevention (CDC).

Background and Brief Description

The Centers for Disease Control and Prevention (CDC) is requesting a three-year clearance for a new information collection project titled “Awardee Lead Profile Assessment (ALPA).” The goal of this project is to build on an existing childhood lead poisoning prevention program. CDC will obtain program management information from participating state and local governments that are awardees under the CDC Healthy Homes and Lead Poisoning Prevention Program (HHLPPP) FY17 Funding Opportunity Announcement (FOA No. CDC-RFA-EH17-1701PPHF17). This annual information collection will be used: (1) To identify common characteristics of funded childhood lead poisoning prevention programs; and (2) inform guidance and resource development in support of the ultimate program goal, which is blood lead elimination in children.

The dissemination of these ALPA results will ensure that both funded and non-funded jurisdictions are able to: (1) Identify policies and other factors that support or hinder childhood lead poisoning prevention efforts; (2) understand what strategies are being used by funded public health agencies to implement childhood lead poisoning prevention activities; and (3) use this knowledge to develop and apply similar strategies to support the national agenda to eliminate childhood lead poisoning.

This program management information will be collected annually from 45 awardees, using two data collection modes. We anticipate that the majority, 40 respondents, will choose the Web survey due to the ease of use, and that 5 respondents will choose the MSWord format mode.

We estimate the time burden to be the same, 7 minutes per response, regardless of data collection mode (Web survey or Word format). This estimate is based on a 2015 survey among 35 former awardees titled “Baseline Profile of State and Local Healthy Homes and Lead Poisoning Prevention Programs (PROF-LEAD),” approved under the generic clearance for “Information Collections to Advance State, Tribal, Local, and Territorial (STLT) Governmental Health” (OMB Control No. 0920-0879; expiration date 03/31/2018). Due to its success, the PROF-LEAD questionnaire is now proposed as an annual reporting requirement for awardees under the FY17 FOA, as the ALPA questionnaire.

There is no cost to the respondents other than their time. The total annual time burden requested is six hours.

Estimated Annualized Burden Hours
Type of respondent | Form name | Number of respondents | Number of responses per respondent | Average burden per response (in hours) | Total burden hours
State And Local Governments (or their bona fide fiscal agents) | Awardee Lead Profile Assessment (ALPA) Questionnaire—Web survey | 40 | 1 | 7/60 | 5
| ALPA Questionnaire—Word format | 5 | 1 | 7/60 | 1
Total |  |  |  |  | 6

Leroy A. Richardson,
Chief, Information Collection Review Office, Office of Scientific Integrity, Office of the Associate Director for Science, Office of the Director, Centers for Disease Control and Prevention.

[FR Doc. 2017-08539 Filed 4-26-17; 8:45 am]

BILLING CODE 4163-18-P